DEPARTMENT OF HOMELAND SECURITY

Coast Guard

33 CFR Part 117

[Docket No. USCG-2023-0183

RIN 1625-AA09

Drawbridge Operation Regulation; River Rouge, Detroit, MI

AGENCY: Coast Guard, Department of Homeland Security (DHS).

ACTION: Final rule.

SUMMARY: The Coast Guard is altering the operations of all movable bridges over the River Rouge, Detroit, MI to improve communications and establish winter hours.

DATES: This rule is effective January 29, 2024.

ADDRESSES: To view documents mentioned in this preamble as being available in the docket, go to https://www.regulations.gov. Type the docket number (USCG-2023-0183) in the “SEARCH” box and click “SEARCH”. In the Document Type column, select “Supporting & Related Material.”

FOR FURTHER INFORMATION CONTACT: If you have questions on this temporary final rule, call or email Mr. Lee D. Soule, Bridge Management Specialist, Ninth Coast Guard District; telephone 216-902-6085, email Lee.D.Soule@uscg.mil.

SUPPLEMENTARY INFORMATION:

I. Table of Abbreviations

CFR Code of Federal Regulations

DHS Department of Homeland Security

FR Federal Register

IGLD85 International Great Lakes Datum of 1985

LWD Low Water Datum based on IGLD85

OMB Office of Management and Budget

NPRM Notice of Proposed Rulemaking

§ Section

U.S.C. United States Code

II. Background Information and Regulatory History

On May 5, 2023, the Coast Guard published an NPRM, with a request for comments, entitled “Drawbridge Operations Regulation: River Rouge, Detroit, MI “in the Federal Register (88 FR 29005), to seek comments on whether the Coast Guard should consider modifying current operating schedules of certain drawbridges over the River Rouge to improve communications and establish winter hours. The National Steel Cooperation Railroad Bridge, mile 0.40, is a single leaf bascule bridge that provides horizontal clearance of 125-feet and a vertical clearance of 6-feet in the closed and an unlimited clearance above LWD.

The West Jefferson Avenue Bridge, mile 1.10, is a double leaf bascule Bridge that provides horizontal clearance of 125-feet and a vertical clearance of 9-feet in the closed and an unlimited clearance in the open position above LWD.

The Conrail Bridge, mile 1.48, is a single leaf bascule bridge that provides horizontal clearance of 123-feet and a vertical clearance of 8-feet in the closed and an unlimited clearance in the open position above LWD and it is remotely operated.

The Norfolk Southern Railroad Bridge, mile 1.87, is a single leaf bascule Bridge that provides horizontal clearance of 125-feet and a vertical clearance of 8-feet in the closed and an unlimited clearance in the open position above LWD.

The Fort Street Bridge, mile 2.20, is a single leaf bascule Bridge that provides horizontal clearance of 118-feet and a vertical clearance of 9-feet in the closed and an unlimited clearance in the open position above LWD.

The main channel of the river was the result of Mr. Henry Ford needing to straighten the entrance of the River Rouge to accommodate deliveries of raw materials to his automotive plant. This main channel, formally known as the short cut channel, formed Zug Island at the mouth of the river. The original channel that curves around the north and west sides of Zug Island is known as the old channel and is crossed by two movable bridges.

The Delray Connecting Railroad Bridge, mile 0.34, is a single leaf bascule Bridge that provides horizontal clearance of 120-feet and a vertical clearance of 7-feet in the closed and an unlimited clearance in the open position above LWD.

The Delray Connecting Railroad Bridge, mile 0.80, is a swing Bridge that provides horizontal clearance of 102-feet and a vertical clearance of 7-feet in the closed and an unlimited clearance in the open position above LWD.

III. Legal Authority and Need for Rule

The Coast Guard is issuing this rule under authority 33 U.S.C. 499.

Commercial mariners have expressed concern that the waterway is crooked and narrow and that to safely navigate the river, they needed to know the status of each bridge in the river prior to entering the waterway. As such, commercial mariners requested that all bridges maintain and operate a marine radio. Review by the Coast Guard of specific complaints of repeated difficulty contacting the Conrail Bridge and the Norfolk Southern Railroad Bridge by radio caused the Coast Guard to determine that these bridges must maintain and make public a phone number for mariners to communicate with the drawtenders.

The institution of winter hours for drawbridges over the River Rouge will modernize bridge operations by authorizing the bridges to operate with a 12-hour advance notice during winter months, as is the practice for drawbridges on similar waterways throughout the Great Lakes.

IV. Discussion of Comments

The Coast Guard provided a comment period of 60 days, and no comments were received.

IV. Discussion of Final Rule

Commercial mariners have complained the waterway is crooked and narrow and they needed to know the status of each bridge in the river prior to entering the waterway. Requiring all bridges to maintain and operate a marine radio will facilitate this need. Furthermore, the complaints of difficulty contacting the Conrail Bridge, mile 1.48 and the Norfolk Southern Railroad Bridges by radio the Coast Guard has determined that these bridges make public a phone number for mariners to communicate with the drawtenders.

Awarding winter hours to the River Rouge has been over looked and will be established in the regulation authorizing the bridges to operate with a 12-hour advance notice from January 1 through March 31 when the river is normally frozen and impassable by most vessels.

V. Regulatory Analyses

We developed this rule after considering numerous statutes and Executive Orders related to rulemaking. Below we summarize our analyses based on a number of these statutes and Executive Orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, it has not been reviewed by the Office of Management and Budget (OMB).

This regulatory action determination is based on the ability that vessels can still transit the bridge given advanced notice.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard did not receive any comments from the Small Business Administration on this rule. The Coast Guard certifies under 5 U.S.C. 605(b) that this rule will not have a significant economic impact on a substantial number of small entities.

While some owners or operators of vessels intending to transit the bridge may be small entities, for the reasons stated in section V. A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

We did not receive any comments during the NPRM.

E. Unfunded Mandates Reform Act

The Unfunded Mandates Reform Act of 1995 (2 U.S.C. 1531-1538) requires Federal agencies to assess the effects of their discretionary regulatory actions. In particular, the Act addresses actions that may result in the expenditure by a State, local, or Tribal Government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table3-1 of the U.S. Coast Guard Environmental Planning Implementation Procedures.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

2. Amend § 117.645 River Rouge by revising paragraph (d) and adding paragraphs (e) through (h) to read as follows:

* * * * *

(d) The draw of the West Jefferson Avenue Bridge, mile 1.10, is required to operate a radiotelephone, and shall open on signal except from January 1 through March 31 when the bridge shall open on signal if provided a 12-hour advance notice.

(e) The draw of the Conrail Bridge, mile 1.48, is remotely operated, is required to operate a radiotelephone and telephone, and shall open on signal except from January 1 through March 31 when the bridge shall open on signal if provided a 12-hour advance notice.

(f) The draw of the Norfolk Southern Railroad Bridge, mile 1.87, is required to operate a radiotelephone and telephone, and shall open on signal except from January 1 through March 31 when the bridge shall open on signal if provided a 12-hour advance notice.

(g) The draw of the Fort Street Bridge, mile 2.20, is required to operate a radiotelephone, and shall open on signal except from January 1 through March 31 when the bridge shall open on signal if provided a 12-hour advance notice.

(h) The draw of the Dix Avenue Bridge, mile 2.73, is remotely operated, is required to operate a radiotelephone, and shall open on signal except from January 1 through March 31 when the bridge shall open on signal if provided a 12-hour advance notice.

Jonathan Hickey,
Rear Admiral, U.S. Coast Guard, Commander, Ninth Coast Guard District.

[FR Doc. 2023-28645 Filed 12-27-23; 8:45 am]

BILLING CODE 9110-04-P